NUCLEAR REGULATORY COMMISSION

[Docket Nos. 50-266 and 50-301]

Nuclear Management Company, Llc; Notice Of Receipt And Availability Of Application For Renewal Of Point Beach Nuclear Plant, Units 1 And 2; Facility Operating License Nos. Dpr-24 And Dpr-27 for an Additional 20-Year Period

The U.S. Nuclear Regulatory Commission (NRC or Commission) has received an application, dated February 25, 2004, from Nuclear Management Company, LLC., filed pursuant to Section 103 (Operating License Numbers DPR-24 and DPR-27) of the Atomic Energy Act of 1954, as amended, and 10 CFR Part 54, to renew the operating licenses for the Point Beach Nuclear Plant, Units 1 and 2, respectively. Renewal of the license would authorize the applicant to operate each facility for an additional 20-year period beyond the period specified in the respective current operating licenses. The current operating license for the Point Beach Unit 1 (DRP-24) expires on October 5, 2010, and the current operating license for Point Beach Unit 2 (DRP-27) expires on March 8, 2013. The Point Beach Nuclear Plant, Units 1 and 2 are pressurized-water reactors designed by Westinghouse Electric Corporation. Both units are located near the Town of Two Creeks near Two Rivers, Wisconsin. The acceptability of the tendered application for docketing, and other matters including an opportunity to request a hearing, will be the subject of subsequent Federal Register notices.

Copies of the application are available for public inspection at the Commission's Public Document Room (PDR), located at One White Flint North, 11555 Rockville Pike (first floor), Rockville, Maryland, 20582 or electronically from the NRC's Agencywide Documents Access and Management System (ADAMS) Public Electronic Reading Room under accession number ML040580020. The ADAMS Public Electronic Reading Room is accessible from the NRC Web site at http://www.nrc.gov/reading-rm/adams.html. In addition, the application is available on the NRC Web page at http://www.nrc.gov/reactors/operating/licensing/renewal/applications.html, while the application is under review. Persons who do not have access to ADAMS or who encounter problems in accessing the documents located in ADAMS should contact the NRC's PDR Reference staff at 1-800-397-4209, extension 301-415-4737, or by e-mail to pdr@nrc.gov.

A copy of the license renewal application for the Point Beach Nuclear Plant, Units 1 and 2, is also available to local residents near the Point Beach Nuclear Plant at the Lester Public Library 1001 Adams Street, Two Rivers, Wisconsin 54241.

Dated at Rockville, Maryland, this 2nd day of March 2004.
For the Nuclear Regulatory Commission.
Pao-Tsin Kuo,
Program Director, License Renewal and Environmental Impacts, Division of Regulatory Improvement Programs, Office of Nuclear Reactor Regulation.

[FR Doc. E4-478 Filed 3-5-04; 8:45 am]

BILLING CODE 7590-01-P